DEPARTMENT OF THE INTERIOR

National Park Service

[NPS-WASO-NAGPRA-NPS0024522; PPWOCRADN0-PCU00RP14.R50000]

Notice of Inventory Completion: Thomas Burke Memorial Washington State Museum, University of Washington, Seattle, WA, and Central Washington University, Ellensburg, WA

AGENCY: National Park Service, Interior.

ACTION: Notice.

SUMMARY: The Thomas Burke Memorial Washington State Museum (Burke Museum) and Central Washington University (CWU) have completed an inventory of human remains and an associated funerary object, in consultation with the appropriate Indian Tribes or Native Hawaiian organizations, and have determined that there is a cultural affiliation between the human remains and associated funerary object and present-day Indian Tribes or Native Hawaiian organizations. Lineal descendants or representatives of any Indian Tribe or Native Hawaiian organization not identified in this notice that wish to request transfer of control of these human remains and this associated funerary object should submit a written request to the Burke Museum or CWU. If no additional requestors come forward, transfer of control of the human remains and associated funerary object to the lineal descendants, Indian Tribes, or Native Hawaiian organizations stated in this notice may proceed.

DATES: Lineal descendants or representatives of any Indian Tribe or Native Hawaiian organization not identified in this notice that wish to request transfer of control of these human remains and this associated funerary object should submit a written request with information in support of the request to the Burke Museum or Central Washington University at the address in this notice by March 1, 2018.

ADDRESSES: Peter Lape, Burke Museum, University of Washington, Box 353010, Seattle, WA 98195, telephone (206) 685-3849 x2, email plape@uw.edu, or Lourdes Henebry-DeLeon, Department of Anthropology, Central Washington University, 400 East University Way, Ellensburg, WA 98926-7544, telephone (509) 963-2671, email Lourdes.Henebry-DeLeon@cwu.edu.

SUPPLEMENTARY INFORMATION: Notice is here given in accordance with the Native American Graves Protection and Repatriation Act (NAGPRA), 25 U.S.C. 3003, of the completion of an inventory of human remains and an associated funerary object under the control of the Burke Museum, University of Washington, Seattle, WA, and Central Washington University, Ellensburg, WA. The human remains and associated funerary object were removed from Birch Bay, Whatcom County, WA.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by Burke Museum and Central Washington University professional staff in consultation with representatives of the Lummi Tribe of the Lummi Reservation and the Nooksack Indian Tribe.

History and Description of the Remains

In 1933, human remains representing, at minimum, two individuals were removed from Birch Bay in Whatcom County, WA. The human remains and an associated funerary object were removed from a “shell heap” by David Eastman, and were donated to the Burke Museum in 1933 (Burke Accn. #2658). In 1974, the Burke Museum transferred the human remains to Central Washington University (CWU ID #BO). No known individuals were identified. The one associated funerary object is a bone wedge, and it is still in the possession of the Burke Museum.

Birch Bay, located near the Canadian border, has several large documented archeological shell midden sites. The bone wedge funerary object is consistent with burial practices in this area, as bone and antler wedges have been found in association with burials from other sites. The human remains have been determined to be Native American based on osteological and archeological evidence.

Information provided during consultations shows Birch Bay to be an important area within the traditional aboriginal territory of the Lummi Tribe. Historical and anthropological sources state that Birch Bay was inhabited by the Semiahmoo, also referred to as the Birch Bay Indians (Amoss, 1978; Ruby et al, 1986; Spier, 1936; Suttles, 1951 & 1990; Swanton, 1952). The Semiahmoo people relocated to the Lummi Reservation and across the border into Canada (Ruby et al, 1986; Suttles, 1951). There is a clear cultural affiliation between these human remains and the Semiahmoo people. Today the Semiahmoo are represented by the Lummi Tribe of the Lummi Reservation. Other information provided during consultation indicates that Birch Bay is also of importance to the Nooksack people, who have a cultural connection to the bay and utilized it for resource procurement.

Determinations Made by the Burke Museum and Central Washington University

Officials of the Burke Museum and Central Washington University have determined that:

• Pursuant to 25 U.S.C. 3001(9), the human remains described in this notice represent the physical remains of two individuals of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the Lummi Tribe of the Lummi Reservation.

Additional Requestors and Disposition

Lineal descendants or representatives of any Indian Tribe or Native Hawaiian organization not identified in this notice that wish to request transfer of control of these human remains and this associated funerary object should submit a written request with information in support of the request to Peter Lape, Burke Museum, University of Washington, Box 353010, Seattle, WA 98195, telephone (206) 685-3849 x2, email plape@uw.edu, or Lourdes Henebry-DeLeon, Department of Anthropology, Central Washington University, 400 East University Way, Ellensburg, WA 98926-7544, telephone (509) 963-2671, email Lourdes.Henebry-DeLeon@cwu.edu, by March 1, 2018. After that date, if no additional requestors have come forward, transfer of control of the human remains and associated funerary object to the Lummi Tribe of the Lummi Reservation may proceed.

The Burke Museum is responsible for notifying the Lummi Tribe of the Lummi Reservation and the Nooksack Indian Tribe that this notice has been published.

Dated: October 23, 2017.
Melanie O'Brien,
Manager, National NAGPRA Program.

Editorial Note: This document was received at the Office of the Federal Regiater on January 25, 2018.

[FR Doc. 2018-01722 Filed 1-29-18; 8:45 am]

BILLING CODE 4312-52-P